ENVIRONMENTAL PROTECTION AGENCY

[FRL-9977-95—Region 2]

Proposed CERCLA Section 122(h) Cost Recovery Settlement for the Global Landfill Superfund Site, Middlesex County, New Jersey

AGENCY: Environmental Protection Agency.

ACTION: Notice; request for public comment.

SUMMARY: In accordance with section 122(i) of the Comprehensive Environmental Response, Compensation, and Liability Act of 1980, as amended (“CERCLA”), notice is hereby given by the U.S. Environmental Protection Agency (“EPA”), Region 2, of a proposed cost recovery settlement agreement pursuant to section 122(h) of CERCLA, between the EPA and 15 settling parties (“Settling Parties”) regarding the Global Landfill Superfund Site (“Site”), located in Middlesex County, New Jersey. Pursuant to the proposed cost recovery settlement agreement, Settling Parties shall pay $345,000 to EPA in reimbursement of past response costs incurred by EPA at the Site, as well as all future response costs incurred by EPA in connection with the Site. In exchange, EPA covenants not to sue or take administrative action against Settling Parties pursuant to section 107(a) of CERCLA, for EPA's past response costs or EPA's future response costs as those costs are defined in the proposed settlement agreement.

For 30 days following the date of publication of this document, EPA will receive written comments concerning the proposed cost recovery settlement agreement. Comments to the proposed settlement agreement should reference the Global Landfill Superfund Site, Index No. CERCLA-02-2018-2012. EPA will consider all comments received during the 30-day public comment period and may modify or withdraw its consent to the settlement agreement if comments received disclose facts or considerations that indicate that the proposed settlement agreement is inappropriate, improper, or inadequate. EPA's response to comments will be available for public inspection at EPA's Region 2 offices located at 290 Broadway, New York, NY 10007-1866.

DATES: Comments must be submitted on or before June 11, 2018.

ADDRESSES: The proposed settlement agreement is available for public inspection at EPA's Region 2 offices. To request a copy of the proposed settlement agreement, please contact the EPA employee identified below.

FOR FURTHER INFORMATION CONTACT: Juan M. Fajardo, Assistant Regional Counsel, Office of Regional Counsel, U.S. Environmental Protection Agency Region 2, 290 Broadway—17th Floor, New York, NY 10007. Email: fajardo.juan@epa.gov; telephone: 212-637-3132.

Dated: April 25, 2018.
John Prince,
Acting Director, Emergency and Remedial Response Division, U.S. Environmental Protection Agency, Region 2.

[FR Doc. 2018-10134 Filed 5-10-18; 8:45 am]

BILLING CODE 6560-50-P